DEPARTMENT OF ENERGY

Federal Energy Regulatory Commission

[Project No. 13952-000]

Claverack Creek, LLC; Notice of Preliminary Permit Application Accepted for Filing and Soliciting Comments, Motions To Intervene, and Competing Applications

On December 31, 2010, Claverack Creek, LLC filed an application for a preliminary permit, pursuant to section 4(f) of the Federal Power Act (FPA), proposing to study the feasibility of the Claverack Creek Hydroelectric Project to be located on Claverack Creek, in Columbia County, New York. The sole purpose of a preliminary permit, if issued, is to grant the permit holder priority to file a license application during the permit term. A preliminary permit does not authorize the permit holder to perform any land-disturbing activities or otherwise enter upon lands or waters owned by others without the owners' express permission.

The proposed project would consist of: (1) The existing 16-foot-high, 170-foot-long Stottville Mill Dam; (2) an existing 11.4-acre impoundment with a normal water surface elevation of 106.0 feet mean sea level; (3) an existing turbine with a new generator and a new turbine-generator with a total capacity of 450 kilowatts; (4) an existing 10-foot-wide, 8-foot-deep intake canal; (5) new trash racks, head gates, and stop log structure; (6) an existing 6-foot-diameter, 10-foot-long penstock and a new 10-foot-long penstock extension; (7) a new 40-foot-wide, 60-foot-long powerhouse; (8) an existing 10-foot-wide, 20-foot-long tailrace; (9) a new approximately 200-foot-long, 13.2-kilovolt transmission line from the powerhouse to a nearby distribution line; (10) a redeveloped 100-foot-long access road; (11) and appurtenant facilities. The project would have an estimated annual generation of 2,182 megawatt-hours.

Applicant Contact: Mr. William D. B. Fay, Claverack Creek, LLC, 189 River Road, Ware, MA 01082; phone: (413) 244-6445.

FERC Contact: Timothy Looney; phone: (202) 502-6096.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of the Commission's Web site at http://www.ferc.gov/docs-filing/elibrary.asp. Enter the docket number (P-13952-000) in the docket number field to access the document. For assistance, contact FERC Online Support.

Dated: February 4, 2011.
Kimberly D. Bose,
Secretary.

[FR Doc. 2011-3158 Filed 2-10-11; 8:45 am]

BILLING CODE 6717-01-P